DEPARTMENT OF AGRICULTURE

Food and Nutrition Service

7 CFR Parts 210 and 235

[FNS-2017-0039]

RIN 0584-AE60

Hiring Flexibility Under Professional Standards; Correction

AGENCY: Food and Nutrition Service (FNS), USDA.

ACTION: Final rule; correction.

SUMMARY: This document contains a correction to the final rule published in the Federal Register on March 1, 2019, “Hiring Flexibility Under Professional Standards.”

DATES: This correction is effective April 30, 2019.

FOR FURTHER INFORMATION CONTACT: Tina Namian, Chief, School Programs Branch, Policy and Program Development Division, Food and Nutrition Service, 3101 Park Center Drive, 12th floor, Alexandria, Virginia 22302; 703-305-2590.

SUPPLEMENTARY INFORMATION: The Food and Nutrition Service published a final rule in the Federal Register, 84 FR 6953, on March 1, 2019, to add four flexibilities to the hiring standards for new school nutrition program directors in small local educational agencies (LEAs) and new State directors of school nutrition programs under the Professional Standards regulations for the National School Lunch Program and School Breakfast Program. First, to address hiring challenges faced by small LEAs, which are those with 2,499 or fewer students, this rule requires relevant food service experience rather than school nutrition program experience for new school nutrition program directors. Second, it provides State agencies with discretion to consider documented volunteer or unpaid work as relevant experience for new school nutrition program directors in LEAs with 2,499 or fewer students. Third, it gives State agencies discretion to accept less than the required years of food service experience when an applicant for a new director position in an LEA with fewer than 500 students has the minimum required education. Lastly, this rule adds flexibility to the hiring standards for State directors of school nutrition programs by allowing State agencies to consider applicants with either a bachelor's or advanced degree in specified fields. These changes are expected to expand the pool of candidates qualified to serve as leaders in the school nutrition programs while continuing to ensure that school nutrition professionals are able to perform their duties effectively and efficiently.

Need for Correction

The table in § 230.30, paragraph (b)(2), omitted a change to the standards. This document corrects those errors.

Therefore, in FR Doc. No. 2019-03524, appearing on page 6953 in the issue of March 1, 2019, make the following correction;

§ 210.30 [Corrected]

1. On page 6960, correct the table in § 210.30(b)(2) to read as follows:

Summary of School Nutrition Program Director Professional Standards by Local Educational Agency Size
Minimum requirements for directors | Student enrollment 2,499 or less | Student enrollment 2,500-9,999 | Student enrollment 10,000 or more
Minimum Education Standards (required) (new directors only) | Bachelor's degree, or equivalent educational experience, with academic major or concentration in food and nutrition, food service management, dietetics, family and consumer sciences, nutrition education, culinary arts, business, or a related field; | Bachelor's degree, or equivalent educational experience, with academic major or concentration in food and nutrition, food service management, dietetics, family and consumer sciences, nutrition education, culinary arts, business, or a related field; | Bachelor's degree, or equivalent educational experience, with academic major or concentration in food and nutrition, food service management, dietetics, family and consumer sciences, nutrition education, culinary arts, business, or a related field;
| OR | OR | OR
| Bachelor's degree, or equivalent educational experience, with any academic major or area of concentration, and either a State-recognized certificate for school nutrition directors or at least 1 year of relevant food service experience; | Bachelor's degree, or equivalent educational experience, with any academic major or area of concentration, and a State-recognized certificate for school nutrition directors; | Bachelor's degree, or equivalent educational experience, with any academic major or area of concentration, and a State-recognized certificate for school nutrition directors;
| OR | OR | OR
| Associate's degree, or equivalent educational experience, with academic major or concentration in food and nutrition, food service management, dietetics, family and consumer sciences, nutrition education, culinary arts, business, or a related field, and at least 1 year of relevant food service experience; OR High school diploma (or GED) and 3 years of relevant food service experience. | Bachelor's degree in any academic major and at least 2 years of relevant school nutrition program experience; OR Associate's degree, or equivalent educational experience, with academic major or concentration in food and nutrition, food service management, dietetics, family and consumer sciences, nutrition education, culinary arts, business, or a related field, and at least 2 years of relevant school nutrition program experience | Bachelor's degree in any major and at least 5 years of experience in management of school nutrition programs.
Minimum Education Standards (preferred) (new directors only) | Directors hired without an associate's degree are strongly encouraged to work toward attaining an associate's degree upon hiring | Directors hired without a bachelor's degree are strongly encouraged to work toward attaining a bachelor's degree upon hiring | Master's degree, or willingness to work toward a master's degree, preferred.
|  |  | At least 1 year of management experience, preferably in school nutrition, is strongly recommended. At least 3 credit hours at the university level in food service management plus at least 3 credit hours in nutritional sciences at time of hiring is strongly preferred.
Minimum Prior Training Standards (required) (new directors only) | At least 8 hours of food safety training is required either not more than 5 years prior to their starting date or completed within 30 calendar days of employee's starting date

Dated: March 1, 2019.
Brandon Lipps,
Administrator, Food and Nutrition Service.

[FR Doc. 2019-04073 Filed 3-6-19; 8:45 am]

BILLING CODE 3410-30-P